DEPARTMENT OF AGRICULTURE

Food and Nutrition Service

Agency Information Collection Activities: Proposed Collection; Comment Request; Performance Reporting System, Management Evaluation

AGENCY: Food and Nutrition Service, USDA.

ACTION: Notice.

SUMMARY: In accordance with the Paperwork Reduction Act of 1995, this notice invites the general public and other public agencies to comment on a proposed information collection for which approval from the Office of Management and Budget (OMB) will be requested. The proposed collection would be an extension of a currently approved collection under OMB No. 0584-0010 which is due to expire January 31, 2007.

DATES: Written comments must be submitted on or before December 4, 2006.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including the use of appropriate automated, electronic, mechanical, or other technological collection techniques or other forms of information technology.

Comments may be sent to Moira Johnston, Senior Program Analyst, Program Design Branch, Food Stamp Program, Food and Nutrition Service, U.S. Department of Agriculture, 3101 Park Center Drive, Alexandria, VA 22302.

All responses to this notice will be summarized and included in the request for OMB approval. All comments will also become a matter of public record.

FOR FURTHER INFORMATION CONTACT: Requests for additional information or copies of the information collection form and instruction should be directed to Moira Johnston, (703) 305-2515.

SUPPLEMENTARY INFORMATION: Title: Performance Reporting System, Management Evaluation.

OMB Number: 0584-0010.

Expiration Date: January 31, 2007.

Type of Request: Revision of a currently approved information collection.

Abstract: The purpose of the Performance Reporting System (PRS) is to ensure that each State agency and project area is operating the Food Stamp Program in accordance with the requirements of the Food Stamp Act of 1977 (the Act) (7 U.S.C. 2011, et seq.), as amended, and corresponding program regulations. Under Section 11 of the Act (7 U.S.C. 2020), State agencies must maintain necessary records to ascertain that the Food Stamp Program is operating in compliance with the Act and regulations and must make these records available to the Food and Nutrition Service (FNS) for inspection and audit.

Management Evaluation (ME) Review Schedules—Unless the State receives approval for an alternative Management Evaluation review schedule, each State agency is required, under 7 CFR part 275, to submit one review schedule every one, two, or three years, depending on the project area make-up of the State.

Data Analysis—Under 7 CFR part 275, each State must establish a system for analysis and evaluation of all data available to the State. Data analysis and evaluation is an ongoing process that facilitates the development of effective and prompt corrective action.

Corrective Action Plans—Under 7 CFR part 275, State agencies must prepare a corrective action plan (CAP) addressing identified deficiencies. The State agencies must develop a system for monitoring and evaluating corrective action and submit CAP updates, as necessary.

Affected Public: State and local agencies.

Estimated Number of Respondents: 1,484.

Number of responses per respondent: 1.04.

Estimated total annual responses: 1,592.

Hours per response: 319.

Estimated Annual Reporting Burden: 490,736.

Number of record keepers: 54.

Estimated annual hours per record keepers: 30.

Estimated annual recordkeeping burden: 1,620 hours.

Total annual reporting and recordkeeping hours: 492,356.

Dated: September 27, 2006.
Roberto Salazar,
Administrator, Food and Nutrition Service.

[FR Doc. E6-16272 Filed 10-2-06; 8:45 am]

BILLING CODE 3410-30-P